ENVIRONMENTAL PROTECTION AGENCY

[EPA-HQ-OPP-2017-0751; FRL-10008-12]

Pesticide Registration Review; Interim Decisions and Case Closures for Several Pesticides; Notice of Availability

AGENCY: Environmental Protection Agency (EPA).

ACTION: Notice.

SUMMARY: This notice announces the availability of EPA's interim registration review decisions for the following chemicals: 2-Phenethyl propionate, ammonium bromide, Bacillus sphaericus, chloropicrin Colletotrichum gloeosporioides, Cuelure [2-butanone, 4 (4-acetyloxy)-acetate], cyazofamid, Extract of Reynoutria sachalinensis, fluroxypyr, flumethrin, glycolic acid and salts, iodine and iodophors, Methyl Anthranilate, momfluorothrin, oxamyl, pelargonic acid, salts and esters, phenmedipham, Phosphoric acid and its salts, pyridaben, Pythium oligandrum DV 74, Straight Chain Lepidopteran Pheromones, sethoxydim, tetraacetylethylenediamine (TAED), thymol, tralopyril, and triclosan. In addition, it announces the closure of the registration review case for Phytophthora palmivora because the last U.S. registrations for this pesticide have been canceled.

FOR FURTHER INFORMATION CONTACT:

For pesticide specific information, contact: The Chemical Review Manager for the pesticide of interest identified in the Table in Unit IV.

For general information on the registration review program, contact: Melanie Biscoe, Pesticide Re-evaluation Division (7508P), Office of Pesticide Programs, Environmental Protection Agency, 1200 Pennsylvania Ave. NW, Washington, DC 20460-0001; telephone number: (703) 305-7106; email address: biscoe.melanie@epa.gov.

SUPPLEMENTARY INFORMATION:

I. General Information

Does this action apply to me?

This action is directed to the public in general, and may be of interest to a wide range of stakeholders including environmental, human health, farm worker, and agricultural advocates; the chemical industry; pesticide users; and members of the public interested in the sale, distribution, or use of pesticides. Since others also may be interested, the Agency has not attempted to describe all the specific entities that may be affected by this action. If you have any questions regarding the applicability of this action to a particular entity, consult the pesticide specific contact person listed under the FOR FURTHER INFORMATION CONTACT section.

II. Background

Registration review is EPA's periodic review of pesticide registrations to ensure that each pesticide continues to satisfy the statutory standard for registration, that is, the pesticide can perform its intended function without unreasonable adverse effects on human health or the environment. As part of the registration review process, the Agency has completed interim decisions for all pesticides listed in the Table in Unit IV. Through this program, EPA is ensuring that each pesticide's registration is based on current scientific and other knowledge, including its effects on human health and the environment.

III. Authority

EPA is conducting its registration review of the chemicals listed in the Table in Unit IV pursuant to section 3(g) of the Federal Insecticide, Fungicide, and Rodenticide Act (FIFRA) and the Procedural Regulations for Registration Review at 40 CFR part 155, subpart C. Section 3(g) of FIFRA provides, among other things, that the registrations of pesticides are to be reviewed every 15 years. Under FIFRA, a pesticide product may be registered or remain registered only if it meets the statutory standard for registration given in FIFRA section 3(c)(5) (7 U.S.C. 136a(c)(5)). When used in accordance with widespread and commonly recognized practice, the pesticide product must perform its intended function without unreasonable adverse effects on the environment; that is, without any unreasonable risk to man or the environment, or a human dietary risk from residues that result from the use of a pesticide in or on food.

IV. What action is the Agency taking?

Pursuant to 40 CFR 155.58, this notice announces the availability of EPA's interim registration review decisions for the pesticides shown in the following table. The interim registration review decisions are supported by rationales included in the docket established for each chemical.

Table—Registration Review Interim Decisions Being Issued
Registration review case name and No. | Docket ID No. | Chemical review manager and contact information
2-Phenethyl propionate Case 3110 | EPA-HQ-OPP-2010-0714 | Cody Kendrick, kendrick.cody@epa.gov, 703-347-0468.
Ammonium bromide Case 5002 | EPA-HQ-OPP-2012-0683 | Stephen Savage, savage.stephen@epa.gov, 703-347-0345.
Bacillus sphaericus Case 6052 | EPA-HQ-OPP-2013-0116 | Alexandra Boukedes, boukedes.alexandra@epa.gov, 703-347-0305.
Chloropicrin Case 0040 | EPA-HQ-OPP-2013-0153 | Samantha Thomas, thomas.samantha@epa.gov, 703-347-0514.
Colletotrichum gloeosporioides Case 4103 | EPA-HQ-OPP-2016-0685 | Joseph Mabon, mabon.joseph@epa.gov, 703-347-0177.
Cuelure [2-butanone, 4 (4-acetyloxy)-acetate] Case 6201 | EPA-HQ-OPP-2017-0221 | Bibiana Oe, oe.bibiana@epa.gov, 703-347-8162.
Cyazofamid Case 7056 | EPA-HQ-OPP-2015-0128 | Robert Little, little.robert@epa.gov, 703-347-8156.
Extract of Reynoutria sachalinensis Case 6030 | EPA-HQ-OPP-2016-0232 | Alexandra Boukedes, boukedes.alexandra@epa.gov, 703-347-0305.
Fluroxypyr Case 7248 | EPA-HQ-OPP-2014-0570 | Eric Fox, fox.ericm@epa.gov, 703-347-0104.
Flumethrin Case 7456 | EPA-HQ-OPP-2016-0031 | Rachel Fletcher, fletcher.rachel@epa.gov, 703-347-0512.
Glycolic acid and salts Case 4045 | EPA-HQ-OPP-2011-0422 | Michael McCarroll, mccarroll.michael@epa.gov, 703-347-0147.
Iodine and iodophors Case 3080 | EPA-HQ-OPP-2013-0767 | Michael McCarroll, mccarroll.michael@epa.gov, 703-347-0147.
Methyl Anthranilate Case 6056 | EPA-HQ-OPP-2011-0678 | Susanne Cerrelli, cerrelli.susanne@epa.gov, 703-308-8077.
Momfluorothrin Case 7457 | EPA-HQ-OPP-2015-0752 | Andrew Muench, muench.andrew@epa.gov, 703-347-8263.
Oxamyl Case 0253 | EPA-HQ-OPP-2010-0028 | Jordan Page, page.jordan@epa.gov, 703-347-0467.
Pelargonic acid, salts and esters Case 6077 | EPA-HQ-OPP-2010-0424 | Michael McCarroll, mccarroll.michael@epa.gov, 703-347-0147.
Phenmedipham Case 0277 | EPA-HQ-OPP-2014-0546 | Lauren Bailey, bailey.lauren@epa.gov, 703-347-0374.
Phosphoric acid and its salts Case 6072 | EPA-HQ-OPP-2012-0672 | Cody Kendrick, kendrick.cody@epa.gov, 703-347-0468.
Pyridaben Case Number 7417 | EPA-HQ-OPP-2010-0214 | Steven R. Peterson, peterson.stevenR@epa.gov, 703-347-0755.
Pythium oligandrum DV 74 Case 6511 | EPA-HQ-OPP-2017-0393 | Cody Kendrick, kendrick.cody@epa.gov, 703-347-0468.
Straight Chain Lepidopteran Pheromones Case 8200 | EPA-HQ-OPP-2012-0127 | Bibiana Oe, oe.bibiana@epa.gov, 703-347-8162.
Sethoxydim Case 2600 | EPA-HQ-OPP-2015-0088 | Alexandra Feitel, feitel.alexandra@epa.gov, 703-347-8631.
Tetraacetylethylenediamine (TAED) Case 5105 | EPA-HQ-OPP-2013-0608 | Kendall Ziner, ziner.kendall@epa.gov, 703-347-8829.
Thymol Case Number 3143 | EPA-HQ-OPP-2010-0002 | Kendall Ziner, ziner.kendall@epa.gov, 703-347-8829.
Tralopyril Case Number 5114 | EPA-HQ-OPP-2013-0217 | Erin Dandridge, dandridge.erin@epa.gov, 703-347-0185.
Triclosan Case Number 2340 | EPA-HQ-OPP-2012-0811 | Megan Snyderman, snyderman.megan@epa.gov, 703-347-0671.

The proposed interim registration review decisions for the chemicals in the table above were posted to the docket and the public was invited to submit any comments or new information. EPA addressed the comments or information received during the 60-day comment period for the proposed interim decisions in the discussion for each pesticide listed in the table. Comments from the 60-day comment period that were received may or may not have affected the Agency's interim decision. Pursuant to 40 CFR 155.58(c), the registration review case docket for the chemicals listed in the Table will remain open until all actions required in the interim decision have been completed.

This document also announces the closure of the registration review case for Phytophthora palmivora (Case 4105, Docket ID Number, EPA-HQ-OPP-2016-0451) because the last U.S. registrations for this pesticide have been canceled.

Background on the registration review program is provided at: http://www.epa.gov/pesticide-reevaluation.

Authority: 7 U.S.C. 136 et seq.

Dated: April 27, 2020.
Mary Reaves,
Acting Director, Pesticide Re-Evaluation Division, Office of Pesticide Programs.

[FR Doc. 2020-10753 Filed 5-18-20; 8:45 am]

BILLING CODE 6560-50-P